DEPARTMENT OF ENERGY

Federal Energy Regulatory Commission

[Project No. 4679-050]

New York Power Authority; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 4679-050.

c. Date Filed: May 25, 2022.

d. Applicant: New York Power Authority (NYPA).

e. Name of Project: Vischer Ferry Hydroelectric Project (Vischer Ferry Project or project).

f. Location: On the Mohawk River in Saratoga and Schenectady Counties, New York.

g. Filed Pursuant to: Federal Power Act 16 U.S.C. 791(a)-825(r).

h. Applicant Contact: Rob Daly, Director of Licensing, NYPA, 123 Main Street, White Plains, NY 10601; Telephone: (914) 681-6564 or Rob.Daly@nypa.gov.

i. FERC Contact: Jody Callihan at (202) 502-8278, or jody.callihan@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at https://www.ferc.gov/docs-filing/efiling.asp. Commenters can submit brief comments up to 6,000 characters, without prior registration, using the eComment system at https://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Washington, DC 20426. Submissions sent via any other carrier must be addressed to: Debbie-Anne A. Reese, Secretary, Federal Energy Regulatory Commission, 12225 Wilkins Avenue, Rockville, Maryland 20852. All filings must clearly identify the project name and docket number on the first page: Vischer Ferry Hydroelectric Project (P-4679-050).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Vischer Ferry Project consists of: (1) the Vischer Ferry dam, a concrete gravity structure composed of three connected spillway sections with a total length of 1,919 feet, the outer ogee-shaped weir sections having an average height of 30 feet and the middle broad-crested weir sections with a height varying from 1 foot to 3 feet; (2) an impoundment with an area of 1,137 acres and a gross storage capacity of 25,000 acre-feet at an elevation of 211 feet Barge Canal Datum (BCD) (27-inch-high flashboards seasonally installed during the navigation season add 2,400 acre-feet of storage); (3) a low-level regulating structure at the northern end of the spillway with sluice gates; (4) a headrace with a longitudinal retaining wall containing the sluice gates; (5) a brick and concrete powerhouse that is 73 feet wide, 186 feet long, and contains two Francis turbine-generator units rated at 2.8 megawatts (MW) each and two vertical Kaplan turbine-generator units rated at 3.0 MW each; (6) an unlined 65-foot-long, 150-foot-wide tailrace; (7) navigation lock E-7 of the Erie Canal; (8) an earthen embankment located to the west of Lock E-7; (9) a switchyard; (10) generator leads and transformer banks; and (11) appurtenant facilities.

The Vischer Ferry Project is operated in a run-of-river mode such that outflow from the project approximates inflow, and the impoundment is maintained within 6 inches of the dam crest (or top of the flashboards, when installed). A year-round, continuous minimum flow of 200 cubic feet per second (cfs) is provided at the project. During the navigation season (typically mid-May through mid-October), the 200-cfs minimum flow is provided as part of a fish passage flow (250 cfs) that is released through notches (absence of flashboards) on the eastern spillway; during the remainder of the year (non-navigation season), the minimum flow is typically provided as part of generation flows. An acoustic deterrent system is seasonally deployed upstream of the project, from May through October, to guide blueback herring that are migrating downstream towards non-turbine routes of passage (notches in the flashboards). Average annual generation at the Vischer Ferry Project is 56,323 MW-hours. NYPA is not proposing any new project facilities or changes to existing facilities and the operation of the project at this time.

m. A copy of the application can be viewed on the Commission's website at https://www.ferc.gov using the “eLibrary” link. Enter the docket number excluding the last three digits in the docket number field to access the document (i.e., P-4679). For assistance, contact FERC Online Support (see item j above).

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

The Commission's Office of Public Participation (OPP) supports meaningful public engagement and participation in Commission proceedings. OPP can help members of the public, including landowners, community organizations, Tribal members, and others access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support (see item j above).

o. The applicant must file no later than 60 days following the date of issuance of this notice: (1) a copy of the water quality certification; (2) a copy of the request for certification, including proof of the date on which the certifying agency received the request; or (3) evidence of waiver of water quality certification.

p. Procedural Schedule: The application will be processed according to the following schedule. Revisions to the schedule may be made as appropriate.

Deadline for filing comments, recommendations, preliminary terms and conditions, and preliminary fishway prescriptions—May 12, 2025 ¹

¹ The Commission's Rules of Practice and Procedure provide that if a deadline falls on a Saturday, Sunday, holiday, or other day when the Commission is closed for business, the deadline does not end until the close of business on the next business day. 18 CFR 385.2007(a)(2). Because the filing deadline would fall on a Sunday (i.e., May 11, 2025), the deadline is extended until the close of business on Monday, May 12, 2025.

Deadline for filing reply comments—June 25, 2025

q. Final amendments to the application must be filed with the Commission no later than 30 days from the issuance date of this notice.

Dated: March 12, 2025.
Debbie-Anne A. Reese,
Secretary.

[FR Doc. 2025-04484 Filed 3-18-25; 8:45 am]

BILLING CODE 6717-01-P